ENVIRONMENTAL PROTECTION AGENCY

[EPA-HQ-OAR-2006-0407; FRL-8943-4]

Agency Information Collection Activities; Proposed Collection; Comment Request; Information Collection Activities Associated With EPA's ENERGY STAR Program in the Commercial and Industrial Sectors; EPA ICR No. 1772, OMB Control No. 2060-0347

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on February 28, 2010. Before submitting the ICR to OMB for review and approval, EPA is soliciting comments on specific aspects of the proposed information collection as described below.

DATES: Comments must be submitted on or before October 13, 2009.

ADDRESSES: Submit your comments, identified by Docket ID No. EPA-HQ-OAR-2006-0407, by one of the following methods:

• www.regulations.gov: Follow the on-line instructions for submitting comments.

• E-mail: a-and-r-Docket@epa.gov.

• Fax: 202-566-9744.

• Mail: Air and Radiation Docket, Environmental Protection Agency, Mailcode: 28221T, 1200 Pennsylvania Ave., NW., Washington, DC 20460.

• Hand Delivery: Air and Radiation Docket in the EPA Docket Center (EPA/DC), EPA West Building, Room 3334, 1301 Constitution Ave., NW., Washington, DC. Such deliveries are only accepted during the Docket's normal hours of operation, and special arrangements should be made for deliveries of boxed information.

Instructions: Direct your comments to Docket ID No. EPA-HQ-OAR-2006-0407. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Mary Susan Bailey, Climate Protection Partnerships Division, Mailcode: 6202J, Environmental Protection Agency, 1200 Pennsylvania Ave., NW., Washington, DC 20460; telephone number: 202-343-9014; fax number: 202-343-2204; e-mail address: bailey.marysusan@epa.gov.

SUPPLEMENTARY INFORMATION:

How Can I Access the Docket and/or Submit Comments?

EPA has established a public docket for this ICR under Docket ID No. EPA-HQ-OAR-2006-0407, which is available for online viewing at www.regulations.gov, or in person viewing at the Air and Radiation Docket in the EPA Docket Center (EPA/DC), EPA West Building, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities affected by this action are participants in EPA's ENERGY STAR Program in the Commercial and Industrial Sectors.

Title: Information Collection Activities Associated with EPA's ENERGY STAR Program in the Commercial and Industrial Sectors.

ICR numbers: EPA ICR No. 1772, OMB Control No. 2060-0347.

ICR status: This ICR is currently scheduled to expire on February 28, 2010. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: ENERGY STAR is a voluntary program helping businesses and organizations as well as individuals protect the environment through superior energy efficiency. The program focuses on reducing utility-generated emissions by reducing the demand for energy. In 1991, EPA launched the Green Lights program to encourage corporations, State and local governments, colleges and universities, and other organizations to adopt energy-efficient lighting as a profitable means of preventing pollution and improving lighting quality. Since then, EPA has rolled Green Lights into ENERGY STAR and expanded ENERGY STAR to encompass organization-wide energy performance improvement, such as building technology upgrades, product purchasing initiatives, and employee training. At the same time, EPA has streamlined the reporting procedures of ENERGY STAR and focused on providing incentives for improvements (e.g., ENERGY STAR Awards Program). EPA provides tools and other resources over the web to help the public overcome the barriers to evaluating their energy performance and investing in profitable improvements. EPA regularly evaluates its reporting procedures and tools to identify ways to minimize the public's burden. For example, EPA has increasingly automated ENERGY STAR's information collections so that organizations can submit information online instead of by mail.

For several reasons, EPA has seen a dramatic increase in the public's participation in ENERGY STAR over the past several years and expects their participation to rise even more in the coming years. President Obama has made energy efficiency an important component of the Federal government's approach to energy management. Under the American Recovery and Reinvestment Act of 2009, Congress and the president allocated approximately $20 billion to encourage Federal agencies, States, local governments and industry to design, improve and use energy efficient buildings and products. President Obama is currently urging Congress to pass the American Clean Energy and Security Act, which would encourage greater energy efficiency in the nation's buildings and homes.

In addition, a growing number of State and local governments are promoting ENERGY STAR as a way for the public to respond to rising energy costs and global warming. Participation in ENERGY STAR has also risen dramatically because of the efforts of trade associations, utilities, and third-party providers in promoting the program to the public. These organizations voluntarily transmit ENERGY STAR messages and promote the use of ENERGY STAR tools and strategies in an effort to help companies reduce their energy consumption and find more environmentally friendly ways to conduct business.

To join ENERGY STAR, organizations are asked to complete a Partnership Letter or Agreement that establishes their commitment to protect the environment. Partners agree to undertake efforts such as measuring and tracking the energy performance of their facilities where possible by using tools such as those offered by ENERGY STAR, spreading the word about the importance of energy efficiency to staff and the community, supporting the ENERGY STAR Challenge, and highlighting achievements with recognition offered through ENERGY STAR.

Partners also may be asked to periodically submit information to EPA as needed to assist in program implementation. For example, EPA maintains the Most Active Service and Product Providers Directory to provide the public with easy access to energy efficiency services that can help companies lower operating costs and increase their bottom line. Businesses wishing to appear in this directory are asked to submit a completed application that demonstrates that they have met specified requirements.

Partnership in ENERGY STAR is voluntary and can be terminated by Partners or EPA at any time. EPA does not expect organizations to join the program unless their participation is cost-effective and otherwise beneficial for them.

In addition, Partners and any other interested party can help EPA promote energy-efficient technologies by evaluating the efficiency of their buildings using EPA's on-line tools (e.g., Portfolio Manager) and applying for recognition.

Burden Statement: The annual public reporting and recordkeeping burden for this collection of information will vary depending on the type of participant, the specific collection activity, and other factors. The annual burden for joining ENERGY STAR and conducting related activities is estimated to range from about 2 to 7 hours per respondent. This includes time for preparing and submitting the Partnership Letter or Agreement and other information as requested. The burden for applying for an ENERGY STAR is estimated to range from about 5.5 to 10.5 hours per respondent. This includes time for reading the instructions of the benchmarking tool if needed, gathering and entering information on building characteristics and energy use into the tool, and preparing/submitting the ENERGY STAR application materials to EPA. The burden for applying for an ENERGY STAR Award is estimated to range from 2 to 26.5 hours per respondent. This includes time for preparing and submitting the awards application materials to EPA.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated annual number of potential respondents: 6,000.

Frequency of response: One-time, annually, and/or periodically, depending on the type of respondent and collection.

Estimated total annual respondent burden hours: 54,500.

Estimated total annual respondent costs: $5,436,710, including $3,574,491 in labor costs and $1,862,219 in O&M costs. There are no capital/start-up costs to respondents.

Are There Changes in the Estimates From the Last Approval?

The burden estimates presented in this document are from the last approval. EPA is currently evaluating and updating these estimates as part of the ICR renewal process. EPA will discuss its updated estimates, as well as changes from the last approval, in the next Federal Register notice to be issued for this renewal.

What is the Next Step in the Process for This ICR?

EPA will consider the comments received and amend the ICR as appropriate. The final ICR package will then be submitted to OMB for review and approval pursuant to 5 CFR 1320.12. At that time, EPA will issue another Federal Register notice pursuant to 5 CFR 320.5(a)(1)(iv) to announce the submission of the ICR to OMB and the opportunity to submit additional comments to OMB. If you have any questions about this ICR or the approval process, please contact the technical person listed under FOR FURTHER INFORMATION CONTACT.

Dated: August 5, 2009.
Kathleen Hogan,
Director, Climate Protection Partnerships Division.

[FR Doc. E9-19188 Filed 8-10-09; 8:45 am]

BILLING CODE 6560-50-P